DEPARTMENT OF TRANSPORTATION

Federal Aviation Administration

14 CFR Part 73

[Docket No. FAA-2003-15478; Airspace Docket No. 03-AWP-6]

RIN 2120-AA66

Amendment to Restricted Area 4809, Tonopah; NV

AGENCY: Federal Aviation Administration (FAA), DOT.

ACTION: Final rule.

SUMMARY: This action adds “FAA, Los Angeles Air Route Traffic Control Center (ARTCC)” as the controlling agency for Restricted Area 4809 (R-4809), Tonopah, NV. Additionally, this action changes the using agency of R-4809 from the “Department of Energy (DOE), Albuquerque Operations Office, NM,” to the “U.S. Air Force (USAF), Headquarters Air Warfare Center, Nellis Air Force Base (AFB), NV.” These changes will facilitate the FAA's “Joint-Use Concept” of managing airspace areas in a more dynamic manner. This action does not change any boundaries, times of designation, or activities conducted in the restricted airspace area.

EFFECTIVE DATE: 0901 UTC, October 30, 2003.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION:

History

In April 2002, the DOE signed an agreement transferring responsibility for the daily use of R-4809 to the USAF. On May 14, 2003, the USAF submitted a request to add the Los Angeles ARTCC as the controlling agency of R-4809, and to change the area's using agency from the DOE to the USAF.

The Rule

This action responds to the above agreement and requested changes. Specifically, this action adds “FAA, Los Angeles ARTCC,” as the controlling agency for R-4809, and changes the using agency from the “DOE, Albuquerque Operations Office, NM,” to the “USAF, Headquarters Air Warfare Center, Nellis AFB, NV.” These changes will designate R-4809 as a joint-use area, and make the airspace accessible to nonparticipating aircraft. This action does not change any boundaries, times of designation, or activities conducted in the restricted airspace area.

Section 73.48 of part 73 of the Federal Aviation Regulations was republished in FAA Order 7400.8K, dated September 26, 2002.

The FAA has determined that this regulation only involves an established body of technical regulations for which frequent and routine amendments are necessary to keep them operationally current. Therefore, this regulation: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1D, Policies and Procedures for Considering Environmental Impacts. This airspace action is not expected to cause any potentially significant environmental impacts, and no extraordinary circumstances exist that warrant preparation of an environmental assessment.

List of Subjects in 14 CFR Part 73

Airspace, Navigation (air).

Adoption of the Amendment

In consideration of the foregoing, the Federal Aviation Administration amends 14 CFR part 73, as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.48 [Amended]

2. § 73.48 is amended as follows:

* * * * *

R-4809, NV [Amended]

By removing “Using agency. DOE, Albuquerque Operations Office, NM,” and substituting “Using agency. USAF, Headquarters Air Warfare Center, Nellis AFB, NV.”

By adding “Controlling agency. FAA, Los Angeles ARTCC.”

* * * * *

Issued in Washington, DC, on July 10, 2003.
Paul Gallant,
Acting Manager, Airspace and Rules Division.

[FR Doc. 03-18381 Filed 7-18-03; 8:45 am]

BILLING CODE 4910-13-P